DEPARTMENT OF EDUCATION

Privacy Act of 1974; System of Records

AGENCY: Federal Student Aid, U.S. Department of Education.

ACTION: Notice of altered system of records.

SUMMARY: In accordance with the Privacy Act of 1974, as amended (Privacy Act), 5 U.S.C. 552a, the Chief Operating Officer for Federal Student Aid (FSA) of the Department of Education (Department) publishes this notice to rename and revise the system of records entitled “Recipient Financial Management System (RFMS)” (18-11-02).

In this notice, the Department is replacing the RFMS system with the “Common Origination and Disbursement” (COD) system. The COD system is designed to assist the Department in administering Federal grant and loan programs authorized by title IV of the Higher Education Act of 1965, as amended (HEA), and to include information needed under Federal grant programs created by the Higher Education Reconciliation Act of 2005, title VIII of Public Law 109-171.

The COD system will contain records associated with the activities required of participating educational institutions to originate an award (establish the eligibility of an individual to receive a Federal grant or loan) from those programs authorized by the HEA for which the Department provides funds directly to those institutions on a student-level or recipient-level basis. This system will also contain records evidencing the disbursement of program funds by participating educational institutions to those individuals whose eligibility was previously established.

The Department seeks comments on the proposed routine uses described in this altered system of records notice, in accordance with the requirements of the Privacy Act.

DATES: We must receive your comments on the proposed routine uses for the system of records on or before October 27, 2010.

The Department filed a report describing the altered system of records covered by this notice with the Chair of the Senate Committee on Homeland Security and Governmental Affairs, the Chair of the House Committee on Oversight and Government Reform, and the Administrator of the Office of Information and Regulatory Affairs, Office of Management and Budget (OMB) on September 22, 2010. This altered system of records will become effective at the later date of: (1) The expiration of the 40-day period for OMB review on November 1, 2010; or (2) October 27, 2010, unless the system of records needs to be changed as a result of public comment or OMB review.

ADDRESSES: Address all comments about the proposed routine uses to: Director, COD Systems, Program Management Services, FSA, U.S. Department of Education, Union Center Plaza (UCP), 830 First Street, NE., Washington, DC 20202-5454. Telephone: 202-377-3676. If you prefer to send comments by e-mail, use the following address: comments@ed.gov.

You must include the term “Common Origination and Disbursement” in the subject line of your electronic message.

During and after the comment period, you may inspect all public comments about this notice at the Department in Room 62E4, UCP, 6th Floor, 830 First Street, NE., Washington, DC 20202-5454 between the hours of 8:00 a.m. and 4:30 p.m., Eastern Time, Monday through Friday of each week except Federal holidays.

Assistance to Individuals With Disabilities in Reviewing the Rulemaking Record

On request, we will supply an appropriate accommodation or auxiliary aid to an individual with a disability who needs assistance to review the comments or other documents in the public rulemaking record for this notice. If you want to schedule an appointment for this type of accommodation or auxiliary aid, please contact the person listed under FOR FURTHER INFORMATION CONTACT.

FOR FURTHER INFORMATION CONTACT: Director, COD Systems, Program Management Services, FSA, U.S. Department of Education, UCP, 830 First Street, NE., Washington, DC 20202-5454. Telephone: 202-377-3676. If you use a telecommunications device for the deaf (TDD), call the Federal Relay Service (FRS), toll free, at 1-800-877-8339.

Individuals with disabilities can obtain this document in an accessible format (e.g., braille, large print, audiotape, or computer diskette) on request to the contact person listed under this section.

SUPPLEMENTARY INFORMATION:

Introduction

The Privacy Act (5 U.S.C. 552a(e)(4) and (11)) requires the Department to publish in the Federal Register this notice of an altered system of records. The Department's regulations implementing the Privacy Act are contained in 34 CFR part 5b.

The Privacy Act applies to information about individuals that contains individually identifying information and that is retrieved by a unique identifier associated with each individual, such as a name or social security number (SSN). The information about each individual is called a “record,” and the system, whether manual or computer-based, is called a “system of records.”

The Privacy Act requires each agency to publish a system of records notice in the Federal Register and to submit, whenever the agency publishes a new system of records or significantly alters an established system of records, a report to the Administrator of the Office of Information and Regulatory Affairs, OMB. Each agency is also required to send copies of the report to the Chair of the Senate Committee on Homeland Security and Governmental Affairs and the Chair of the House of Representatives Committee on Oversight and Government Reform.

A system of records is considered “altered” whenever an agency expands the types or categories of information maintained, significantly expands the types or categories of individuals about whom records are maintained, changes the purpose for which the information is used, changes the equipment configuration in a way that creates substantially greater access to the records, or adds a routine use disclosure to the system.

This notice of an altered system of records renames RFMS as the COD system, expands the categories of records maintained in the system, clarifies the categories of individuals covered by the system and the system's purposes, updates the system locations, and reflects the current programmatic routine use disclosures needed to carry out responsibilities under the HEA. A notice for the previous version of the COD system, the RFMS, was published in the Federal Register on June 4, 1999 (64 FR 30161-62) and amended on December 27, 1999 (64 FR 72407).

The COD system includes records on individuals who have received title IV, HEA program assistance. These records include information provided by recipients of title IV, HEA program assistance and the parents of dependent recipients. The records contain individually identifying information about the recipient, including, but not limited to his or her: name, SSN, address, date of birth, e-mail address, and citizenship status.

Electronic Access to this Document: You can view this document, as well as all other documents of this Department published in the Federal Register, in text or Adobe Portable Document Format (PDF) on the Internet at the following Web site: http://www.ed.gov/news/fedregister/index.html.

To use PDF you must have Adobe Acrobat Reader, which is available free at this site.

NOTE: The official version of this document is the document published in the Federal Register. Free Internet access to the official edition of the Federal Register and the Code of Federal Regulations is available on GPO Access at: http://www.gpoaccess.gov/nara/index.html.

Dated: September 22, 2010.
William J. Taggart,
Chief Operating Officer, Federal Student Aid.

For the reasons discussed in the preamble, the Chief Operating Officer, Federal Student Aid, U.S. Department of Education (Department) publishes a notice of altered system of records to read as follows:

SYSTEM NUMBER

18-11-02

SYSTEM NAME:

Common Origination and Disbursement (COD) System.

SECURITY CLASSIFICATION:

None.

SYSTEM LOCATIONS:

Total Systems Services, Inc. (TSYS), 1600 First Ave., P.O. Box 2567, Columbus, GA 31902-2567. (This is the Computer Center for the COD Application.) All electronic COD information is processed and stored here. This includes the William D. Ford Federal Direct Loan (Direct Loan) Program, the Federal Pell Grant Program, the Academic Competitiveness Grant (ACG) Program, the National Science and Mathematics Access to Retain Talent (National SMART) Grant Program, the Teacher Education Assistance for College and Higher Education (TEACH) Grant Program, and the Iraq and Afghanistan Service Grant Program.)

Affiliated Computer Services, Inc. (ACS), 2429 Military Road, Suite 200, Niagara Falls, NY 14304-1551. (This is the COD Customer Service Center.)

HP Enterprise Services, COD Ancillary Services, 201 TechnaCenter Dr., Suite 300, Montgomery, AL 36117-6044. (This center images and stores all of the Direct Loan promissory notes.)

Dell Perot Systems, 2300 W. Plano Parkway, Plano, TX 75075-8427. (The Direct Loan electronic promissory notes, TEACH Agreement to Serve promissory notes, Direct Loan Entrance Counseling, TEACH Entrance Counseling, and the COD archives are stored here.)

HP Enterprise Services, D5-2B-14, 6901 Windcrest Parkway, Plano, TX 75024-8427. (This is the data center for the paper promissory notes processed by COD Ancillary Services.)

CATEGORIES OF INDIVIDUALS COVERED BY THE SYSTEM:

This system contains records of individuals who apply for or receive a Federal grant or loan under one of the following programs authorized under title IV of the Higher Education Act of 1965, as amended (HEA): (1) The Federal Pell Grant Program; (2) the ACG Program; (3) the National SMART Grant Program; (4) the TEACH Grant Program; (5) the Iraq and Afghanistan Service Grant Program; and (6) the Direct Loan Program, which consists of Federal Direct Unsubsidized and Subsidized Stafford/Ford Loans, and Federal Direct PLUS Loans. COD also contains records of individuals who have completed Direct Loan Entrance Counseling.

CATEGORIES OF RECORDS IN THE SYSTEM:

Records in the COD system include, but are not limited to: (1) Recipient identifier information including name, social security number (SSN), and date of birth; (2) recipient demographic information such as address, e-mail address, driver's license number, telephone number, citizenship status, dependency status, estimated family contribution, cost of attendance, post-secondary school identifier, and enrollment information; (3) Federal Pell Grant, ACG, SMART Grant, TEACH Grant, Iraq and Afghanistan Service Grant, and Direct Loan award amounts and dates of disbursements; (4) Federal Pell Grant, ACG, SMART Grant, and Iraq and Afghanistan Service Grant collection referral and payment amounts; (5) Direct Loan promissory notes; (6) TEACH Agreement to Serve documents; and, (7) Direct Loan and TEACH entrance counseling information, including the SSNs of the recipients and the dates that they completed the entrance counseling.

AUTHORITY FOR MAINTENANCE OF THE SYSTEM:

This system of records is authorized under title IV of the HEA, 20 U.S.C. 1070 et seq.

PURPOSES:

The information contained in this system is maintained for the following purposes related to students and borrowers: (1) To determine recipient eligibility and benefits for the title IV, HEA programs; (2) to store electronic data that support the existence of a legal obligation to repay funds disbursed under the title IV, HEA programs, including documentation such as promissory notes, and other agreements; (3) to identify whether an individual may have received a title IV, HEA Federal grant or loan at more than one educational institution for the same enrollment period in violation of title IV, HEA program regulations; and (4) to identify whether an individual may have exceeded the annual award limits under the title IV, HEA Federal grant or loan programs in violation of title IV, HEA program regulations.

The information in this system is also maintained for the following purposes relating to institutions participating in and administering the title IV, HEA programs: (1) To enable an educational institution to reconcile, on an aggregate and recipient-level basis, the amount of title IV, HEA Federal grant and Direct Loan funds that an institution received with disbursements it made to, or on behalf of, eligible students (including reconciling verification codes, reconciling the funds received with disbursements made by type of funds received, and making necessary corrections and adjustments); (2) to enable an institution of higher education to perform on-line credit checks to determine the credit worthiness of a borrower for title IV, HEA Federal Direct PLUS Loans; and (3) to assist an institution of higher education, a software vendor, or a third-party servicer with questions about a title IV, HEA Federal grant or loan.

The information in this system is also maintained for the following purposes relating to the Department's oversight of the title IV, HEA programs: (1) To support the investigation of possible fraud and abuse and to detect and prevent fraud and abuse in the title IV, HEA Federal grant and loan programs; (2) to confirm that an institution of higher education, or a program offered by an institution of higher education, is eligible to receive title IV, HEA program funds; (3) to set and adjust program funding authorization levels for each institution; (4) to enforce institutional compliance with Department reporting deadlines; and (5) to apply appropriate title IV, HEA funding controls.

ROUTINE USES OF RECORDS MAINTAINED IN THE SYSTEM, INCLUDING CATEGORIES OF USERS AND PURPOSES OF SUCH USES:

The Department may disclose information contained in a record in this system of records under the routine uses listed in this system of records without the consent of the individual if the disclosure is compatible with the purposes for which the record was collected. The Department may make these disclosures on a case-by-case basis or, if the Department has complied with the computer matching requirements of the Privacy Act of 1974, as amended (Privacy Act), under a computer matching agreement.

(1) Program Purposes. The Department may disclose records from the system of records for the following program purposes:

(a) To verify the identity of the recipient involved or the accuracy of the record, or to assist with the determination of program eligibility and benefits, the Department may disclose records to institutions of higher education; financial institutions; third-party servicers; and Federal, State, or local agencies;

(b) To store electronic data that support the existence of a legal obligation to repay funds disbursed under the title IV, HEA programs, including documentation such as promissory notes and other agreements, the Department may disclose records to institutions of higher education, third-party servicers, and Federal agencies;

(c) To identify whether an individual may have received a title IV, HEA Federal grant or loan at more than one institution of higher education for the same enrollment period in violation of title IV, HEA regulations, the Department may disclose records to institutions of higher education; third-party servicers; and Federal, State, or local agencies;

(d) To identify whether an individual may have exceeded the annual award limits under the title IV, HEA Federal grant or Direct Loan Programs in violation of title IV, HEA regulations, the Department may disclose records to institutions of higher education, third-party servicers, and Federal agencies;

(e) To enable institutions of higher education to reconcile, on an aggregate and recipient-level basis, the amount of title IV, HEA Federal grant and Direct Loan funds that an institution received with disbursements it made to, or on behalf of, eligible students (including reconciling verification codes, reconciling the funds received with disbursements made by type of funds received, and making necessary corrections and adjustments), the Department may disclose records to institutions of higher education; third-party servicers; and Federal, State, or local agencies;

(f) To enable an institution of higher education to perform on-line credit checks to determine the credit worthiness of a borrower for title IV, HEA Federal Direct PLUS Loans, disclosures may be made to institutions of higher education, third-party servicers, credit reporting agencies, and Federal agencies;

(g) To assist an individual, institutions of higher education, third-party servicers, or software vendors with questions about a title IV, HEA Federal grant or loan, disclosures may be made to institutions of higher education; software vendors; third-party servicers; and Federal, State, or local agencies;

(h) To support the investigation of possible fraud and abuse and to detect and prevent fraud and abuse in the title IV, HEA Federal grant and loan programs, disclosures may be made to institutions of higher education; third-party servicers; and Federal, State, or local agencies.

(2) Congressional Member Disclosure. The Department may disclose the records of an individual to a member of Congress or the member's staff when necessary to respond to an inquiry from the member made at the written request of that individual. The member's right to the information is no greater than the right of the individual who requested it.

(3) Disclosure for Use by Other Law Enforcement Agencies. The Department may disclose information to any Federal, State, local, or foreign agency or other public authority responsible for enforcing, investigating, or prosecuting violations of administrative, civil, or criminal law or regulation if that information is relevant to any enforcement, regulatory, investigative, or prosecutorial responsibility within the receiving entity's jurisdiction.

(4) Enforcement Disclosure. In the event that information in this system of records indicates, either on its face or in connection with other information, a violation or potential violation of any applicable statute, regulation, or order of a competent authority, the Department may disclose the relevant records to the appropriate agency, whether foreign, Federal, State, Tribal, or local, charged with the responsibility of investigating or prosecuting that violation or charged with enforcing or implementing the statute, Executive order, rule, regulation, or order issued pursuant thereto.

(5) Litigation or Alternative Dispute Resolution (ADR) Disclosure.

(a) Introduction. In the event that one of the following parties listed below is involved in litigation or ADR, or has an interest in litigation or ADR, the Department may disclose certain records from this system of records to the parties described in paragraphs (b), (c) and (d) of this routine use under the conditions specified in those paragraphs:

(i) The Department or any of its components.

(ii) Any Department employee in his or her official capacity.

(iii) Any Department employee in his or her individual capacity if the Department of Justice (DOJ) has been requested to or has agreed to provide or arrange for representation of the employee.

(iv) Any Department employee in his or her individual capacity when the Department has agreed to represent the employee.

(v) The United States when the Department determines that the litigation is likely to affect the Department or any of its components.

(b) Disclosure to the DOJ. If the Department determines that disclosure of certain records to the DOJ is relevant and necessary to litigation or ADR, the Department may disclose those records as a routine use to the DOJ.

(c) Adjudicative Disclosure. If the Department determines that it is relevant and necessary to litigation or ADR to disclose certain records from this system of records to an adjudicative body before which the Department is authorized to appear or to an individual or an entity designated by the Department or otherwise empowered to resolve or mediate disputes, the Department may disclose those records as a routine use to the adjudicative body, individual, or entity.

(d) Disclosure to Parties, Counsel, Representatives, or Witnesses. If the Department determines that disclosure of certain records to a party, counsel, representative, or witness is relevant and necessary to the litigation or ADR, the Department may disclose those records as a routine use to the party, counsel, representative, or witness.

(6) Employment, Benefit, and Contracting Disclosure.

(a) For Decisions by the Department. The Department may disclose information from this system of records to a Federal, State, or local agency or to another public authority or professional organization, if necessary, to obtain information relevant to a Department decision concerning the hiring or retention of an employee or other personnel action; the issuance of a security clearance; the letting of a contract; or the issuance of a license, grant, or other benefit.

(b) For Decisions by Other Public Agencies and Professional Organizations. The Department may disclose information from this system of records to a Federal, State, local, or foreign agency or other public authority or professional organization, in connection with the hiring or retention of an employee or other personnel action; the issuance of a security clearance; the reporting of an investigation of an employee; the letting of a contract; or the issuance of a license, grant, or other benefit, to the extent that the record is relevant to the receiving entity's decision on the matter.

(7) Employee Grievance, Complaint, or Conduct Disclosure. If a record is relevant and necessary to a grievance, complaint, or disciplinary proceeding involving a present or former employee of the Department, the Department may disclose a record from this system of records in the course of investigation, fact-finding, or adjudication to any party to the grievance, complaint, or action; to the party's counsel or representative; to a witness; or to a designated fact-finder, mediator, or other person designated to resolve issues or decide the matter. The disclosure may only be made during the course of investigation, fact-finding, or adjudication.

(8) Labor Organization Disclosure. The Department may disclose a record from this system of records to an arbitrator to resolve disputes under a negotiated grievance procedure or to officials of a labor organization recognized under 5 U.S.C. chapter 71 when relevant and necessary to their duties of exclusive representation.

(9) Freedom of Information Act (FOIA) and Privacy Act Advice Disclosure. The Department may disclose records from this system of records to the DOJ or Office of Management and Budget (OMB) if the Department concludes that disclosure is desirable or necessary in determining whether particular records are required to be disclosed under the FOIA or the Privacy Act.

(10) Disclosure to the DOJ. The Department may disclose records from this system of records to the DOJ to the extent necessary for obtaining DOJ advice on any matter relevant to an audit, inspection, or other inquiry related to the programs covered by this system.

(11) Contract Disclosure. If the Department contracts with an entity for the purposes of performing any function that requires disclosure of records in this system to employees of the contractor, the Department may disclose the records to those employees. Before entering into such a contract, the Department must require the contractor to maintain Privacy Act safeguards as required under 5 U.S.C. 552a(m) with respect to the records in the system.

(12) Research Disclosure. The Department may disclose records from this system of records to a researcher if the Department determines that the individual or organization to which the disclosure would be made is qualified to carry out specific research related to functions or purposes of this system of records. The official may disclose records from this system of records to that researcher solely for the purpose of carrying out that research related to the functions or purposes of this system of records. The researcher must be required to maintain Privacy Act safeguards with respect to the disclosed records.

(13) Disclosure to OMB for Credit Reform Act (CRA) Support. The Department may disclose records from this system of records to OMB as necessary to fulfill CRA requirements.

(14) Disclosure in the Course of Responding to Breach of Data. The Department may disclose records from this system of records to appropriate agencies, entities, and persons when (a) the Department suspects or has confirmed that the security or confidentiality of information in this system has been compromised; (b) the Department has determined that as a result of the suspected or confirmed compromise, there is a risk of harm to economic or property interests, identity theft or fraud, or harm to the security or integrity of this system or other systems or programs (whether maintained by the Department or by another agency or entity) that rely upon the compromised information; and (c) the disclosure made to such agencies, entities, and persons is reasonably necessary to assist the Department's efforts to respond to the suspected or confirmed compromise and prevent, minimize, or remedy such harm.

DISCLOSURE TO CONSUMER REPORTING AGENCIES:

Disclosures pursuant to 5 U.S.C. 552a(b)(12): the Department may disclose to a consumer reporting agency information regarding a valid, overdue claim of the Department. Such information is limited to (1) the name, address, taxpayer identification number, and other information necessary to establish the identity of the individual responsible for the claim; (2) the amount, status, and history of the claim; and (3) the program under which the claim arose. The Department may disclose the information specified in this paragraph under 5 U.S.C. 552a(b)(12) and the procedures contained in 31 U.S.C. 3711(e). A consumer reporting agency to which these disclosures may be made is defined at 15 U.S.C. 1681a(f) and 31 U.S.C. 3701(a)(3).

POLICIES AND PRACTICES FOR STORING, RETRIEVING, ACCESSING, RETAINING, AND DISPOSING OF RECORDS IN THE SYSTEM:

STORAGE:

The Department electronically stores origination and disbursement records on hard disk at TSYS in Columbus, Georgia. It stores electronic master promissory notes on hard disk at the Dell Perot Systems Data Center in Plano, Texas. Paper Direct Loan promissory notes are stored in locked vaults in Montgomery, Alabama and at a Federal Records Center near Atlanta, Georgia. Data obtained from the paper promissory notes are stored on hard disks at TSYS in Columbus, Georgia. This data is referred to as metadata and is used by the system to link promissory notes to borrower data. The Department also creates electronic images of the paper promissory notes at the HP facility in Montgomery, AL and stores the images at the HP facility in Plano, Texas.

RETRIEVABILITY:

Records in the system are retrieved by the individual's SSN or name, or by the institution's Office of Postsecondary Education identification number (OPEID).

SAFEGUARDS:

All physical access to the sites of the Department's contractors where this system of records is maintained, is controlled and monitored by security personnel who check each individual entering the buildings for his or her employee or visitor badge.

In accordance with the Department's Administrative Communications System Directive OM: 5-101 entitled “Contractor Employee Personnel Security Screenings,” all contract and Department personnel who have facility access and system access must undergo a security clearance investigation. Individuals requiring access to Privacy Act data are required to hold, at a minimum, a moderate-risk security clearance level. These individuals are required to undergo periodic screening at five-year intervals.

In addition to undergoing security clearances, contract and Department employees are required to complete security awareness training on an annual basis. Annual security awareness training is required to ensure that contract and Department users are appropriately trained in safeguarding Privacy Act data in accordance with OMB Circular No. A-130, Appendix III.

The computer system employed by the Department offers a high degree of resistance to tampering and circumvention. This security system limits data access to Department and contract staff on a “need-to-know” basis and controls individual users' ability to access and alter records within the system. All users of this system of records are given a unique user identification. The Department's Federal Student Aid (FSA) Information Security and Privacy Policy requires the enforcement of a complex password policy. In addition to the enforcement of the complex password policy, users are required to change their password at least every 90 days in accordance with the Department's information technology standards.

RETENTION AND DISPOSAL:

Federal Direct Loan Records:

Records are maintained and disposed of in accordance with ED 072 FSA Application, Origination, and Disbursement Records, Item b.2. Records are destroyed 15 years after final repayment or audit, or after relevant data is transferred to an alternate recordkeeping system (i.e., loan servicing system), whichever occurs first.

Grant Records:

Records are maintained and disposed of in accordance with ED 072 FSA Application, Origination, and Disbursement Records, Item b.2. Records are destroyed 15 years after final repayment or audit, or after relevant data is transferred to an alternate recordkeeping system (i.e., National Student Loan Data System), whichever occurs first.

SYSTEM MANAGER AND ADDRESS:

System Manager, Common Origination and Disbursement System, FSA, U.S. Department of Education, UCP, 830 First Street, NE., 6th Floor, Washington, DC 20202-5454.

NOTIFICATION PROCEDURE:

If you wish to determine whether a record exists regarding you in the system of records, provide the system manager with your name, date of birth, and SSN. Requests must meet the requirements in 34 CFR 5b.5, including proof of identity.

RECORD ACCESS PROCEDURE:

If you wish to gain access to a record in this system, provide the system manager with your name, date of birth, and SSN. Requests by an individual for access to a record must meet the requirements in 34 CFR 5b.5, including proof of identity.

CONTESTING RECORD PROCEDURE:

If you wish to change the content of a record regarding you in the system of records, provide the system manager with your name, date of birth, and SSN. Identify the specific items to be changed, and provide a written justification for the change. Requests to amend a record must meet the requirements in 34 CFR 5b.7.

RECORD SOURCE CATEGORIES:

This system includes records on individuals who have received title IV, HEA program assistance. These records include information provided by recipients of title IV, HEA program assistance and the parents of dependent recipients. This system also includes information from Federal Grant and Direct Loan origination and disbursement records provided by institutions of higher education or their agents to the Department. The Central Processing System (CPS) (covered by the Department's Privacy Act system of records notice entitled “Federal Student Aid Application File” (18-11-01)) electronically sends the COD system the Abbreviated Applicant File to validate all CPS-processed Free Application for Federal Student Aid (FAFSA) records with the Federal Grant and Direct Loan disbursement data processed through the COD system.

The Department's Privacy Act system of records notice entitled “Common Services for Borrowers (CSB)” (18-11-16) sends COD booking acknowledgements, discharge information, and payments to servicer data.

EXEMPTIONS CLAIMED FOR THE SYSTEM:

None.

[FR Doc. 2010-24162 Filed 9-24-10; 8:45 am]

BILLING CODE 4000-01-P